DEPARTMENT OF THE INTERIOR

National Park Service

National Register of Historic Places; Weekly Listing of Historic Properties

Pursuant to (36 CFR 60.13(b, c)) and (36 CFR 63.5), this notice, through publication of the information included herein, is to apprise the public as well as governmental agencies, associations and all other organizations and individuals interested in historic preservation, of the properties added to, or determined eligible for listing in, the National Register of Historic Places from September 28, to October 2, 2009.

For further information, please contact Edson Beall via: United States Postal Service mail, at the National Register of Historic Places, 2280, National Park Service, 1849 C St. NW., Washington, DC 20240; in person (by appointment), 1201 Eye St. NW., 8th floor, Washington DC 20005; by fax, 202-371-2229; by phone, 202-354-2255; or by e-mail, Edson_Beall@nps.gov.

Dated: December 3, 2009.
Dr. Alexandra Lord,
Acting Chief, National Register of Historic Places/National Historic Landmarks Program.

KEY: State, County, Property Name, Address/Boundary, City, Vicinity, Reference Number, Action, Date, Multiple Name

ARKANSAS

Crawford County

Butterfield Overland Mail Route Lee Creek Road Segment, Lee Creek Rd. W. of AR 220, Cedarville vicinity, 09000770, LISTED, 9/29/09

Butterfield Overland Mail Route Lucian Wood Road Segment, Lucian Wood Road between jct of Armer La. and Cedarville Rd. and AR 220, Cedarville vicinity, 09000771, LISTED, 9/29/09

COLORADO

Denver County

Bastien's Restaurant, 3503 E. Colfax Ave., Denver, 09000774, LISTED, 9/30/09 (Commercial Resources of the East Colfax Avenue Corridor)

Walters, Manuella C., Duplex, 1728 & 1732 Gilpin St., Denver, 09000775, LISTED,9/30/09

FLORIDA

Flagler County

Washington Oaks Historic District, 6402 Oceanshore Blvd., Palm Coast vicinity, 09000400, LISTED, 9/30/09

Lake County

Mount Dora Historic District, Roughly 3rd Ave., 11 Ave., Clayton St., Helen St., Mount Dora, 09000777, LISTED, 10/01/09 (Mount Dora, FL)

St. Johns County

North City Historic District, Roughly bounded by Castillo Dr., San Marcos Ave., Old Mission, US 1, Saint Augustine, 09000778, LISTED, 10/01/09

GEORGIA

Clarke County

Jackson Street Cemetery, S. Jackson St., University of Georgia campus, Athens, 09000779, LISTED, 10/02/09

ILLINOIS

Cook County

Dilg, Herbert A., House, 8544 Callie, Morton Grove, 09000781, LISTED, 9/30/09

Lake County

Westover Road Non-Commissioned Officers' Housing Historic District, 339-355 Westover Rd., Highwood, 08000399, LISTED, 10/01/09

KANSAS

Douglas County

United Presbyterian Center, 1204 Oread Ave., Lawrence, 09000350, LISTED, 9/29/09

MARYLAND

Anne Arundel County

Robinson House, 102 Evon Ct., Severna Park, 09000782, LISTED, 9/30/09

MISSISSIPPI

LeFlore County

Itta Bena Historic District, Roughly bounded by Cemetery St. to the N., Lake Shore Dr. to the E., Lake Side St. to the S., Dewey St. to the W., Itta Bena, 09000785, LISTED,9/30/09

MISSOURI

Cole County

Moreau Park Historic District, 3714 Old Wardsville Rd., Jefferson City vicinity, 09000786, LISTED, 9/30/09

St. Louis County

Moorlands Addition Apartment District, Roughly bounded by Clayton Rd., Glenridge Ave., Wydown Blvd. and (both sides) Westwood Dr., Clayton, 09000787, LISTED, 9/30/09

MONTANA

Carbon County

Smith Mine Historic District, MT 308, Bearcreek vicinity, 09000788, LISTED,9/30/09

NEW YORK

Livingston County

Boyd & Parker Park and Groveland Ambuscade, US 20A; Gray Hill Rd., Cuylerville vicinity, 07000757, LISTED, 10/01/09

PUERTO RICO

Ponce Municipality

Casa Paoli, 14 Mayor St., Ponce, 09000769, LISTED, 10/01/09

San Juan Municipality

San Antonio Railroad Bridge, Spanning San Antonio Channel at PR 1 E. of San Juan Islet, San Juan vicinity, 09000789, LISTED, 9/30/09 (Historic Bridges of Puerto Rico MPS)

SOUTH CAROLINA

Horry County

Kingston Presbyterian Church, 800 3rd Ave., Conway, 08000759, LISTED, 9/28/09

Spartanburg County

Duncan, Bishop William Wallace, House, 300 Howard St., Spartanburg, 76001712, LISTED, ADDITIONAL DOCUMENTATION APPROVED, 10/02/09

TEXAS

Dallas County

Fidelity Union Life Insurance Building, 1511 Bryan and 1507 Pacific Ave., Dallas, 09000306, LISTED, 9/29/09

VIRGINIA

Amherst County

Galt's Mill Complex, 1133 Galt's Mill Rd., Madison Heights, 09000791, LISTED,9/30/09

Buena Vista Independent City

Buena Vista Downtown Historic District, 2000 & 2100 blocks of Magnolia Ave. and adjacent blocks, Buena Vista, 09000792, LISTED, 9/30/09

Dinwiddie County

Zehmer Farm, 9818 Jack Zehmer Rd., McKenney vicinity, 09000793, LISTED,9/30/09

Newport News Independent City

Whittaker Memorial Hospital, 1003 Twenty-Eighth St., Newport News, 09000794, LISTED, 9/30/09

Northampton County

Eastville Historic District, Area includes VA Rt. 13, Old Town Neck Dr., Courthouse Rd., Willow Oak Rd., Rockefellow La., and Stumptown Dr., Eastville vicinity, 09000795, LISTED, 10/01/09

Richmond Independent City

Woodland Heights Historic District, Bounded by James River, W. 24th St., Bainbridge St. and Forest Hill Ave., and W. 32nd and 34th Sts., Richmond, 09000796, LISTED,9/30/09

WISCONSIN

Dodge County

Fountain Inn, 203 Front St., Beaver Dam, 09000797, LISTED, 9/30/09

[FR Doc. E9-29267 Filed 12-8-09; 8:45 am]

BILLING CODE P